DEPARTMENT OF HOUSING AND URBAN DEVELOPMENT

[Docket No. FR-7070-N-58]

30-Day Notice of Proposed Information Collection: Disclosure of Adjustable-Rate Mortgage (ARM) Rates OMB Control No.: 2502-0322

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: October 26, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Colette Pollard, Clearance Officer, REE, Department of Housing and Urban Development, 451 7th Street SW, Room 8210, Washington, DC 20410-5000; email PaperworkReductionActOffice@hud.gov.

FOR FURTHER INFORMATION CONTACT: Colette Pollard, Reports Management Officer, REE, Department of Housing and Urban Development, 7th Street SW, Room 8210, Washington, DC 20410; email Colette.Pollard@hud.gov or telephone 202-402-3400. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on July 6, 2023 at 88 FR 43136.

A. Overview of Information Collection

Title of Information Collection: Disclosure of Adjustable Rate Mortgage (ARM) Rates.

OMB Approval Number: 2502-0322.

OMB Expiration Date: 8-31-2023.

Type of Request: Extension.

Form Number: None.

Description of the need for the information and proposed use: Mortgage lenders must provide loan applicants wishing to obtain an FHA-insured Adjustable Rate Mortgage (ARM) with a pre-loan disclosure that includes a written explanation of the ARM loan features. Loan servicers must also provide mortgagors with adjustable rate mortgages an annual ARM Disclosure Notice at least 25 days before any adjustment to a mortgagor's monthly payment may occur, advising the borrower of the new interest rate, the new monthly payment, index value and how the adjustment was calculated. Lenders generate the ARM Disclosures electronically and generally provide these disclosures on paper to their borrowers or in electronic formats. HUD collects the pre-loan ARM disclosure as part of the origination case binder. HUD may collect post-closing ARM disclosures as part of HUD's program monitoring and enforcement activities, e.g., when a loan is selected for HUD's post-endorsement quality review, or the lender sends the file to HUD for claim. HUD may review collected disclosures to ensure compliance with the ARM disclosure requirements.

Respondents: Lenders.

Estimated Number of Respondents: 2250.

Estimated Number of Responses: 60,401.

Frequency of Response: One per FHA-insured adjustable rate loan.

Average Hours per Response: .05.

Total Estimated Burden: 3,020.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comment in response to these questions.

C. Authority

Section 3507 of the Paperwork Reduction Act of 1995, 44 U.S.C. 3507.

Colette Pollard,
Department Reports Management Officer, Office of Policy Development and Research, Chief Data Officer.

[FR Doc. 2023-20829 Filed 9-25-23; 8:45 am]

BILLING CODE 4210-67-P